GENERAL SERVICES ADMINISTRATION

[Notice-MG-2017-01; Docket No. 2017-0002; Sequence No. 2]

Office of Federal High-Performance Green Buildings; Green Building Advisory Committee; Notification of Upcoming Public Committee Meeting and Conference Calls

AGENCY: Office of Government-wide Policy (OGP), General Services Administration (GSA).

ACTION: Meeting notice.

SUMMARY: Notice of this meeting and these conference calls is being provided according to the requirements of the Federal Advisory Committee Act. This notice provides the agenda and schedule for the June 7, 2017 meeting of the Green Building Advisory Committee (the Committee) and schedule for a series of conference calls, supplemented by Web meetings, for two new task groups of the Committee. The meeting is open to the public and the site is accessible to individuals with disabilities. The conference calls are open for the public to listen in. Interested individuals must register to attend as instructed below under Supplementary Information.

DATES: Meeting date: The meeting will be held on Wednesday, June 7, 2017, starting at 9:00 a.m., Eastern Daylight Time (EDT), and ending no later than 3:30 p.m., EDT.

Task group conference call dates: The conference calls will be held according to the following schedule:

The High Performance Building Adoption task group will hold recurring, weekly conference calls on Thursdays beginning April 6 through July 20, 2017 from 3:00 p.m., EDT to 4:00 p.m., EDT.

The Health and Wellness task group will hold recurring, weekly conference calls on Wednesdays beginning April 5 through July 19, 2017 from 11:00 a.m., EDT, to 12:00 p.m., EDT.

FOR FURTHER INFORMATION CONTACT: Mr. Ken Sandler, Designated Federal Officer, Office of Federal High-Performance Green Buildings, OGP, GSA, 1800 F Street NW., Washington, DC 20405, telephone 202-219-1121 (note: This is not a toll-free number). Additional information about the Committee, including meeting materials and updates on the task groups and their schedules, will be available on-line at http://www.gsa.gov/gbac.

SUPPLEMENTARY INFORMATION:

Procedures for Attendance and Public Comment: Contact Mr. Ken Sandler at ken.sandler@gsa.gov to register to attend the meeting and/or listen in to any or all of these conference calls. To attend the meeting and/or conference calls, submit your full name, organization, email address, and phone number, and which you would like to attend. Requests to attend the June 7, 2017 meeting must be received by 5:00 p.m., EDT, on Friday, May 26, 2017. Requests to listen in to the conference calls must be received by 5:00 p.m., EDT, on Tuesday, April 4, 2017. (GSA will be unable to provide technical assistance to any listener experiencing technical difficulties. Testing access to the Web meeting site in advance of calls is recommended.)

Contact Ken Sandler at ken.sandler@gsa.gov to register to comment during the June 7, 2017 meeting public comment period. Registered speakers/organizations will be allowed a maximum of five minutes each, and will need to provide written copies of their presentations. Requests to comment at the meeting must be received by 5:00 p.m., EDT, on Friday, May 26, 2017. Written comments also may be provided to Mr. Sandler at ken.sandler@gsa.gov by the same deadline.

Background: The Administrator of GSA established the Committee on June 20, 2011 (Federal Register/Vol. 76, No. 118) pursuant to Section 494 of the Energy Independence and Security Act of 2007 (EISA, 42 U.S.C. 17123). Under this authority, the Committee provides independent policy advice and recommendations to GSA to increase the economic and operational performance of the federal building portfolio and its positive impact on organizational effectiveness, human health and wellbeing.

The Committee has recently proposed two new task groups. The High Performance Building Adoption task group will pursue the motion of a committee member to provide recommendations to “accelerate the adoption of high performance [Federal] buildings.” The Health and Wellness task group will pursue the motion of a committee member to “develop guidelines to integrate health and wellness features into government facilities programs.”

The conference calls will allow the task groups to coordinate the development of consensus recommendations to the full Committee, which will, in turn, decide whether to proceed with formal advice to GSA based upon these recommendations.

June 7, 2017 Meeting Agenda:

• Welcome, Introductions, Updates & Plans for Today

• High Performance Building Adoption: Task Group Report & Discussion

• Working Lunch (with Presentation)

• Health and Wellness: Task Group Report & Discussion

• Topics Proposed by Committee Members

• Public Comment Period

• Closing comments

• Adjourn

Detailed agendas, background information, and updates for the meeting and conference calls will be posted on GSA's Web site at http://www.gsa.gov/gbac.

Meeting Access: The Committee will convene its June 7, 2017 meeting at GSA, Room 1153, 1800 F Street NW., Washington DC 20405, and the site is accessible to individuals with disabilities.

Dated: March 13, 2017.
Kevin Kampschroer,
Federal Director, Office of Federal High-Performance Green Buildings, General Services Administration.

[FR Doc. 2017-05416 Filed 3-17-17; 8:45 am]

BILLING CODE 6820-14-P